DEPARTMENT OF TRANSPORTATION

National Highway Traffic Safety Administration

[Docket No. NHTSA-2011-0040; Notice 1]

Forest River, Inc., Receipt of Petition for Decision of Inconsequential Noncompliance

Forest River, Inc. (Forest River),¹ has determined that approximately 2,741 model years 2009-2011 R-Pod travel trailers that it manufactured from October 27, 2008 through November 30, 2010, fail to meet the requirements of paragraph S5.1.1 of Federal Motor Vehicle Safety Standard (FMVSS) No. 108, Lamps, Reflective Devices, and Associated Equipment. Forest River has filed an appropriate report pursuant to 49 CFR part 573, Defect and Noncompliance Responsibility and Reports, dated December 14, 2010.

¹ Forest River, Inc., is a manufacturer of motor vehicles and is organized under the laws of the state of Indiana.

Pursuant to 49 U.S.C. 30118(d) and 30120(h) (see implementing rule at 49 CFR part 556), Forest River has petitioned for an exemption from the notification and remedy requirements of 49 U.S.C. chapter 301 on the basis that this noncompliance is inconsequential to motor vehicle safety.

This notice of receipt of Forest River's petition is published under 49 U.S.C. 30118 and 30120 and does not represent any agency decision or other exercise of judgment concerning the merits of the petition.

Forest River estimates that a total of approximately 2,741 model year 2009-2011 R-Pod model travel trailers are affected, of which 2,697 were manufactured in Forest River's Surveyor Division plant in Goshen, Indiana and 44 were manufactured in its Surveyor Division plant in Dallas, Oregon.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 2,741 ² vehicles that have already passed from the manufacturer to an owner, purchaser, or dealer.

² Forest River's petition, which was filed under 49 CFR part 556, requests an agency decision to exempt Forest River as a vehicle manufacturer from the notification and recall responsibilities of 49 CFR part 573 for the 2,741 affected vehicles. However, the agency cannot relieve Forest River distributors of the prohibitions on the sale, offer for sale, or introduction or delivery for introduction into interstate commerce of the noncompliant vehicles under their control after Forest River recognized that the subject noncompliance existed. Those vehicles must be brought into conformance, exported, or destroyed.

Paragraph S5.1.1 of FMVSS No. 108 requires in pertinent part:

S5.1 Required motor vehicle lighting equipment.

S5.1.1 Except as provided in succeeding paragraphs of this S5.1.1, each vehicle shall be equipped with at least the number of lamps, reflective devices, and associated equipment specified in Tables I and III and S7, as applicable. Required equipment shall be designed to conform to the SAE Standards or Recommended Practices referenced in those tables. Table I applies to multipurpose passenger vehicles, trucks, trailers, and buses, 80 or more inches in overall width. Table III applies to passenger cars and motorcycles and to multipurpose passenger vehicles, trucks, trailers, and buses, less than 80 inches in overall width * * *

Table I—Required Motor Vehicle Lighting Equipment Other Than Headlamps
[Multipurpose passenger vehicles, trucks, trailers, and buses, of 80 or more inches overall width]
Item | Multipurpose passenger vehicles, trucks, and buses | Trailers | Applicable SAE standard or recommended practice (See S5 for subreferenced SAE materials)
Taillamps | 2 red | 2 red | J585e, September 1977.
Stoplamps | 2 red | 2 red | SAE J1398, May 1985.
License plate lamp | 1 white | 1 white | J587 October 1981.
Reflex reflectors | 4 red; 2 amber | 4 red; 2 amber | J594f, January 1977.
Side marker lamps | 2 red; 2 amber | 2 red; 2 amber | J592e, July 1972.
Backup lamp | 1 white | None | J593c, February 1968.
Turn signal lamps | 2 red or amber; 2 amber | 2 red or amber | SAE J1395, April 1985.
Turn signal operating unit | 1 | None | J589, April 1964.
Turn signal flasher | 1 | None | J590b, October 1965.
Vehicular hazard warning signal operating unit | 1 | None | J910, January 1966.
Vehicular hazard warning signal flasher | 1 | None | J945, February 1966.
Identification lamps | 3 amber; 3 red | 3 red | J592e, July 1972.
Clearance lamps | 2 amber; 2 red | 2 amber, 2 red | J592e, July 1972.
Intermediate side marker lamps | 2 amber | 2 amber | J592e, July 1972.
Intermediate side reflex reflectors | 2 amber | 2 amber | J594f, January 1977.
Conspicuity | See S5.7 | See S5.7 | See S5.7

Note: (1) The term overall width refers to the nominal design dimension of the widest part of the vehicle, exclusive of signal lamps, marker lamps, outside rearview mirrors, flexible fender extensions, and mud flaps, determine with doors and windows closed, and the wheels in the straight-ahead position.

This supersedes the interpretation of the term “overall width” appearing in the Federal Register of March 1, 1967 (32 FR 3390).

Forest River described the noncompliances as the absence of the clearance lamps and marker lamps required by paragraph S5.1.1 of FMVSS No. 108.

Forest River explained that its original interpretation of the requirements of FMVSS No. 108 caused it to believe that because the bodies of the subject trailers, not including the fenders, are less than 80 inches in width that clearance lamps and marker lamps were not required.

Forest River further explained that based on a consumer complaint NHTSA's Office of Vehicle Safety Compliance (OVSC) inspected a number of the subject vehicles and found that based on the width of the vehicles, including the fenders, that clearance lamps and marker lamps were required on the vehicles due to the requirements of paragraph S5.1.1, Table 1 of FMVSS No. 108.

In its petition Forest River argues that the noncompliance is inconsequential to motor vehicle safety for the following reasons:

(1) The cost of correcting the noncompliance is substantial.

(2) Installation of clearance lamps and marker lamps on fully assembled vehicle has the potential of causing deterioration of the vehicles if the remedy is not completed correctly.

(3) “The box of the unit [subject vehicle] is under the 80 inch width and is properly marked according to Table IV of [49 CFR] 571.108. The fenders are low on each side of the unit.”

Forest River additionally states that it has corrected the subject noncompliances so that future production of its R-Pod travel trailer will conform with all applicable requirements of FMVSS No. 108.

Supported by the above stated reasons, Forest River believes that the described FMVSS No. 108 noncompliance is inconsequential to motor vehicle safety, and that its petition, to exempt it from providing recall notification of noncompliance as required by 49 U.S.C. 30118 and remedying the recall noncompliance as required by 49 U.S.C. 30120, should be granted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 28, 2011.

Authority: (49 U.S.C. 30118, 30120: delegations of authority at CFR 1.50 and 501.8).

Issued on: August 22, 2011.
Claude H. Harris,
Director, Office of Vehicle Safety Compliance.

[FR Doc. 2011-21953 Filed 8-26-11; 8:45 am]

BILLING CODE 4910-59-P